INTERNATIONAL TRADE COMMISSION

[Investigation No. 731-TA-1444 (Final)]

Carbon and Alloy Steel Threaded Rod From Thailand; Determination

On the basis of the record ¹ developed in the subject investigation, the United States International Trade Commission (“Commission”) determines, pursuant to the Tariff Act of 1930 (“the Act”), that an industry in the United States is materially injured by reason of imports of carbon and alloy steel threaded rod (“threaded rod”) from Thailand, provided for in subheadings 7318.15.50, 7318.15.20, and 7318.19.00 of the Harmonized Tariff Schedule of the United States, that have been found by the U.S. Department of Commerce (“Commerce”) to be sold in the United States at less than fair value (“LTFV”).2 3

¹ The record is defined in sec. 207.2(f) of the Commission's Rules of Practice and Procedure (19 CFR 207.2(f)).

² 84 FR 56162 (October 21, 2019) (final determination).

³ The Commission also finds that imports subject to Commerce's affirmative critical circumstances determination are not likely to undermine seriously the remedial effect of the antidumping duty order on Thailand.

Background

The Commission, pursuant to section 735(b) of the Act (19 U.S.C. 1673d(b)), instituted this investigation effective February 21, 2019, following receipt of a petition filed with the Commission and Commerce by Vulcan Threaded Products Inc. (“Vulcan”), Pelham, Alabama. The Commission scheduled the final phase of the investigation following notification of a preliminary determination by Commerce that imports of threaded rod from Thailand ⁴ were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of August 27, 2019 (84 FR 44916). The hearing was held in Washington, DC, on October 15, 2019, and all persons who requested the opportunity were permitted to appear in person or by counsel.

⁴ 84 FR 38597 (August 7, 2019) (preliminary determination).

The Commission made this determination pursuant to section 735(b) of the Act (19 U.S.C. 1673d(b)). It completed and filed its determination in this investigation on December 5, 2019. The views of the Commission are contained in USITC Publication 4998 (December 2019), entitled Carbon and Alloy Steel Threaded Rod from Thailand: Investigation No. 731-TA-1444 (Final).

By order of the Commission.
Issued: December 5, 2019.
Lisa Barton,
Secretary to the Commission.

[FR Doc. 2019-26581 Filed 12-9-19; 8:45 am]

BILLING CODE 7020-02-P